DEPARTMENT OF THE INTERIOR

Fish and Wildlife Service

50 CFR Part 21

[Docket No. FWS-HQ-MB-2015-0032; FF09M21200-156-FXMB1231099BPP0]

RIN 1018-BA90

Migratory Bird Permits; Update of Falconry Permitting Reporting Address

AGENCY: Fish and Wildlife Service, Interior.

ACTION: Final rule.

SUMMARY: The State of California has implemented an online permitting and reporting system compatible with the system that we, the U.S. Fish and Wildlife Service (Service), use for reporting take of raptors from the wild for falconry. We change the Web address for falconers in California to report takes, acquisitions, transfers, and losses of falconry birds.

DATES: This rule is effective January 1, 2016.

FOR FURTHER INFORMATION CONTACT: Ron Kokel at 703-358-1967.

SUPPLEMENTARY INFORMATION:

Background

We published a final rule in the Federal Register on October 8, 2008 (73 FR 59448), to revise our regulations governing falconry in the United States, found in title 50 of the Code of Federal Regulations (CFR) at § 21.29. In 2013, we added the State of California to the list of States to which we delegate permitting for falconry to the State, as provided under the regulations (78 FR 72830, December 4, 2013).

This Rule

In the falconry regulations at 50 CFR 21.29, we offer two methods to submit required reports or other information: (1) Electronically, by entering the required information in our electronic database at http://permits.fws.gov/186A; and (2) by hard copy, by submitting a paper form 3-186A to the falconer's State, tribal, or territorial agency that governs falconry. The State of California has developed and implemented an online permitting and reporting system that is compatible with the system we use for reporting take of raptors from the wild for falconry (our electronic database at http://permits.fws.gov/186A). Allowing California residents to use that State's reporting system should result in a small savings of resources for both the State and the Service. Therefore, with this rule, we change the web address for falconers in California to report takes, acquisitions, transfers, and losses of falconry birds.

Administrative Procedure

This action is administrative in nature. We are providing regulated entities and the general public with an accurate web address to report take, loss, or transfers of raptors by falconers in California. We delegated the State of California permitting authority for falconry under the regulations at 50 CFR 21.29 (see 78 FR 72830, December 4, 2013). This rule facilitates that State's permitting and reporting requirements, and will enable reporting with our system for reporting take, acquisition, loss, or transfer of any bird for falconry. The change should slightly reduce administration costs for both the State and the Service. The delegation of permitting authority to the State of California has already been subject to public notice-and-comment procedures, and this change simply adds an Internet address to the regulations at 50 CFR 21.29 to allow full use of California's permitting and reporting system. Under 5 U.S.C. 553(b), rules of agency organization, procedure, or practice may be made final without previous notice to the public. This is a final rule.

Required Determinations

Regulatory Planning and Review (Executive Orders 12866 and 13563)

Executive Order 12866 provides that the Office of Management and Budget's Office of Information and Regulatory Affairs (OIRA) will review all significant rules. OIRA has determined that this rule is not significant.

Executive Order (E.O.) 13563 reaffirms the principles of E.O. 12866 while calling for improvements in the nation's regulatory system to promote predictability, to reduce uncertainty, and to use the best, most innovative, and least burdensome tools for achieving regulatory ends. The executive order directs agencies to consider regulatory approaches that reduce burdens and maintain flexibility and freedom of choice for the public where these approaches are relevant, feasible, and consistent with regulatory objectives.

E.O. 13563 emphasizes further that regulations must be based on the best available science and that the rulemaking process must allow for public participation and an open exchange of ideas. We have developed this rule in a manner consistent with these requirements.

Regulatory Flexibility Act (5 U.S.C. 601 et seq.)

Under the Regulatory Flexibility Act (5 U.S.C. 601 et seq., as amended by the Small Business Regulatory Enforcement Fairness Act (SBREFA) of 1996 (Pub. L. 104-121), whenever an agency is required to publish a notice of rulemaking for any proposed or final rule, it must prepare and make available for public comment a regulatory flexibility analysis that describes the effect of the rule on small entities (that is, small businesses, small organizations, and small government jurisdictions). However, no regulatory flexibility analysis is required if the head of an agency certifies the rule will not have a significant economic impact on a substantial number of small entities.

SBREFA amended the Regulatory Flexibility Act to require Federal agencies to provide the statement of the factual basis for certifying that a rule will not have a significant economic impact on a substantial number of small entities.

We have examined this rule's potential effects on small entities as required by the Regulatory Flexibility Act, and have determined that this action will not have a significant economic impact on a substantial number of small entities. This rule simplifies reporting required by 50 CFR 21.29 for residents of California. This rule does not change falconers' costs for practicing their sport, nor does it affect businesses that provide equipment or supplies for falconry. This rule may result in a small savings of time and other resources by the State of California and by the Service, but neither of these is a small entity. Consequently, we certify that, because this rule will not have a significant economic effect on a substantial number of small entities, a regulatory flexibility analysis is not required.

This rule is not a major rule under the SBREFA (5 U.S.C. 804(2)). It will not have a significant economic impact on a substantial number of small entities.

a. This rule does not have an annual effect on the economy of $100 million or more. There are no costs to permittees or any other part of the economy associated with this change to the regulations.

b. This rule will not cause a major increase in costs or prices for consumers, individual industries, Federal, State, or local government agencies, or geographic regions. This rule simplifies reporting required by 50 CFR 21.29 for residents of California.

c. This rule will not have significant adverse effects on competition, employment, investment, productivity, innovation, or the ability of U.S.-based enterprises to compete with foreign-based enterprises.

Unfunded Mandates Reform Act

In accordance with the Unfunded Mandates Reform Act (2 U.S.C. 1501 et seq.), we have determined the following:

a. This rule will not “significantly or uniquely” affect small governments in a negative way. A small government agency plan is not required. The State of California requested that we make this change to the regulations to simply falconry reporting for that State's residents.

b. This rule will not produce a Federal mandate of $100 million or greater in any year. It is not a “significant regulatory action” under the Unfunded Mandates Reform Act.

Takings

In accordance with E.O. 12630, the rule does not have significant takings implications. A takings implication assessment is not required. This rule does not contain a provision for taking of private property.

Federalism

This rule does not have sufficient Federalism effects to warrant preparation of a federalism summary impact statement under E.O. 13132. The State of California requested that we make this change to the regulations to simplify falconry reporting for that State's residents.

Civil Justice Reform

In accordance with E.O. 12988, the Office of the Solicitor has determined that the rule does not unduly burden the judicial system and meets the requirements of sections 3(a) and 3(b)(2) of the Order.

Paperwork Reduction Act

We examined this rule under the Paperwork Reduction Act of 1995 (44 U.S.C. 3501 et seq.), and it does not contain any new collections of information that require Office of Management and Budget (OMB) approval. OMB has approved the information collection requirements of the Migratory Bird Permits Program and assigned OMB control number 1018-0022, which expires May 31, 2017. Information from the collection is used to document take of raptors from the wild for use in falconry and to document transfers of raptors held for falconry between permittees. A Federal agency may not conduct or sponsor and a person is not required to respond to a collection of information unless it displays a currently valid OMB control number.

National Environmental Policy Act

We evaluated the environmental impacts of the changes to the regulations, and determined that this rule does not have any environmental impacts.

Government-to-Government Relationship With Tribes

In accordance with the President's memorandum of April 29, 1994, “Government-to-Government Relations with Native American Tribal Governments” (59 FR 22951), Executive Order 13175, and 512 DM 2, we have evaluated potential effects on Federally recognized Indian Tribes and have determined that this rule will not interfere with Tribes' ability to manage themselves or their funds or to regulate falconry on Tribal lands.

Energy Supply, Distribution, or Use

E.O. 13211 requires agencies to prepare Statements of Energy Effects when undertaking certain actions. This rule is not a significant regulatory action under E.O. 12866, and will not significantly affect energy supplies, distribution, or use. Therefore, this action is not a significant energy action and no Statement of Energy Effects is required.

Environmental Consequences of the Action

Socioeconomic. This action will not have discernible socioeconomic impacts.

Raptor populations. This rule will not change the effects of falconry on raptor populations. We are simply adding to our regulations at 50 CFR 21.29 a falconry reporting method for residents of California.

Endangered and threatened species. This rule does not change protections for endangered and threatened species.

Compliance With Endangered Species Act Requirements

Section 7 of the Endangered Species Act (ESA) of 1973, as amended (16 U.S.C. 1531 et seq.), requires that “The Secretary [of the Interior] shall review other programs administered by him and utilize such programs in furtherance of the purposes of this chapter” (16 U.S.C. 1536(a)(1)). It further states that the Secretary must “insure that any action authorized, funded, or carried out . . . is not likely to jeopardize the continued existence of any endangered species or threatened species or result in the destruction or adverse modification of [critical] habitat” (16 U.S.C. 1536(a)(2)). This rule will not affect threatened or endangered species or their habitats in the United States.

List of Subjects in 50 CFR Part 21

Exports, Hunting, Imports, Reporting and recordkeeping requirements, Transportation, Wildlife.

Regulation Promulgation

For the reasons stated in the preamble, we amend subpart C of part 21, subchapter B of chapter I, title 50 of the Code of Federal Regulations, as follows:

PART 21—MIGRATORY BIRD PERMITS

1. The authority citation for part 21 continues to read as follows:

Authority: 16 U.S.C. 703-12.

2. Amend § 21.29 by:

a. Revising paragraph (b)(2);

b. Revising the fifth sentence of paragraph (c)(6)(i);

c. Revising the third sentence of paragraph (c)(6)(ii);

d. Revising the second sentence of paragraph (c)(6)(iii)(A);

e. Revising paragraph (c)(6)(iii)(B);

f. Revising the first sentence of paragraph (e)(2)(iv);

g. Revising the second sentence of paragraph (e)(5)(i);

h. Revising paragraph (e)(6)(i);

i. Revising paragraph (e)(7)(i);

j. Revising the third sentence of paragraph (e)(9)(ii);

k. Revising the second sentence of paragraph (e)(9)(iii); and

l. Revising the second sentence after the heading of paragraph (f)(6).

The revisions read as follows:

§ 21.29 Falconry standards and falconry permitting.

* * * * *

(b) * * *

(2) Reporting. (i) The State, tribe, or territory must work with us to ensure that the electronic 3-186A reporting system (http://permits.fws.gov/186A) for reporting take, transfers, and loss of falconry birds is fully operational for residents of that jurisdiction.

(ii) If you are required to submit a report or other information under this section, you must either enter the required information in the electronic database at http://permits.fws.gov/186A, or at http://www.wildlife.ca.gov/FalconryReporting if you are a resident of California, or submit a paper form 3-186A to your State, tribal, or territorial agency that governs falconry.

* * * * *

(c) * * *

(6) * * *

(i) * * * Within 10 days from the day on which you take the raptor from the wild, you must report take of the bird by submitting the required information (including the band number) using one of the methods listed in paragraph (b)(2)(ii) of this section. * * *

(ii) * * * You must submit the required information using one of the methods listed in paragraph (b)(2)(ii) of this section. * * *

(iii) * * *

(A) * * * You must submit the required information within 10 days of rebanding the raptor using one of the methods listed in paragraph (b)(2)(ii) of this section.

(B) Purchase and implant an ISO-compliant (134.2 kHz) microchip in the bird and report the microchip information using one of the methods listed in paragraph (b)(2)(ii) of this section.

* * * * *

(e) * * *

(2) * * *

(iv) If you are responsible for reporting take of a raptor from the wild, use one of the methods listed in paragraph (b)(2)(ii) of this section. * * *

* * * * *

(5) * * *

(i) * * * You must report take of the bird using one of the methods listed in paragraph (b)(2)(ii) of this section at your first opportunity to do so, but no more than 10 days after capture of the bird. * * *

* * * * *

(6) * * *

(i) If you acquire a raptor; transfer, reband, or microchip a raptor; if a raptor you possess is stolen; if you lose a raptor to the wild and you do not recover it within 30 days; or if a bird you possess for falconry dies; you must report the change within 10 days using one of the methods listed in paragraph (b)(2)(ii) of this section.

* * * * *

(7) * * *

(i) If you acquire a bird from a rehabilitator, within 10 days of the transaction you must report it using one of the methods listed in paragraph (b)(2)(ii) of this section.

* * * * *

(9) * * *

(ii) * * * You must remove its falconry band (if it has one) and report release of the bird by submitting the required information using one of the methods listed in paragraph (b)(2)(ii) of this section.

(iii) * * * You must remove its falconry band and report release of the bird by submitting the required information using one of the methods listed in paragraph (b)(2)(ii) of this section.

* * * * *

(f) * * *

(6) * * * Within 10 days, you must report the transfer by submitting the required information using one of the methods listed in paragraph (b)(2)(ii) of this section.

* * * * *

Dated: June 15, 2015.
Michael J. Bean,
Principal Deputy Assistant Secretary for Fish and Wildlife and Parks.

[FR Doc. 2015-16371 Filed 7-1-15; 8:45 am]

BILLING CODE 4310-55-P